DEPARTMENT OF COMMERCE

National Oceanic and Atomospheric Administration

50 CFR Part 660

[Docket No. 040628196-5130-02; I.D. 061704A]

RIN 0648-AQ92

Fisheries Off West Coast States and in the Western Pacific; Western Pacific Pelagic Fisheries; American Samoa Longline Limited Entry Program; Correction

AGENCY: National Marine Fisheries Service (NMFS), National Oceanic and Atmospheric Administration (NOAA), Commerce.

ACTION: Final rule; correction.

SUMMARY: This document contains a correction to a final rule that was published on May 24, 2005.

DATES: Effective August 1, 2005.

FOR FURTHER INFORMATION CONTACT: Alvin Z. Katekaru, Pacific Islands Area Office, NMFS, 808-973-2937.

SUPPLEMENTARY INFORMATION: The final rule for Amendment 11 was published in the Federal Register on May 24, 2005, (70 FR 29646). Instruction 9 was misnumbered as Instruction 10. This document corrects this oversight.

Correction

In the rule FR Doc. 05-10351, in the issue of Tuesday, May 24, 2005 (70 FR 29646), on page 29657, in the third column, correct Instruction 10 to read Instruction 9.

Dated: July 13, 2005.
Rebecca Lent,
Deputy Assistant Administrator for Regulatory Programs, National Marine Fisheries Service.

[FR Doc. 05-14096 Filed 7-15-05; 8:45 am]

BILLING CODE 3510-22-S